DEPARTMENT OF STATE

[Public Notice 6486]

Nonproliferation Sanctions

ACTION: Imposition of Sanctions on Persons Associated With the A.Q. Khan Nuclear Proliferation Network.

SUMMARY:

Nuclear Proliferation Prevention Act

A determination has been made that foreign persons have engaged in activities that require the imposition of measures pursuant to the Nuclear Proliferation Prevention Act (NPPA), 22 U.S.C. 6301. Pursuant to the NPPA, the United States determined on January 9, 2009 that the following foreign persons have materially and with requisite knowledge contributed, through an export of certain goods or technology, to the efforts by a non-nuclear weapon state to acquire unsafeguarded special nuclear material or to use, develop, produce, stockpile, or otherwise acquire any nuclear explosive device that requires the imposition of the sanctions described in Sections 6301(C)(1) of 22 U.S.C. 6301:

Selim Alguadis;

Kursad Zafer Cire;

Muhammad Nasim ud Din;

EKA Elektronik Kontrol Aletleri Sanayi ve Ticaret A.S.;

ETI Elektroteknik Sanayi ve Ticaret A.S.;

Muhammad Farooq;

Paul Griffin;

Peter Griffin;

Abdul Qadeer Khan;

Shamsul Bahrin bin Rukiban;

Buhary Seyed Abu Tahir; and

Shah Hakim Shahnazim Zain.

Accordingly, the following sanctions are being imposed on these persons:

(A) The United States shall not procure, or enter into any contract for the procurement of, any goods or services from these persons.

These measures become effective immediately and shall be implemented by the responsible departments and agencies of the United States Government as provided in the NPPA.

Export Import Bank Act

A determination was made on January 9, 2009 that foreign persons have engaged in activities that require the imposition of measures pursuant to Section 2(b)(4) of the Export Import Bank Act of 1945, 12 U.S.C. 635(b)(4). Specifically, the U.S. Government determined that the following foreign persons knowingly aided or abetted, after September 23, 1996, a non-nuclear weapon state to acquire unsafeguarded special nuclear material:

Selim Alguadis;

Kursad Zafer Cire;

Muhammad Nasim ud Din;

EKA Elektronik Kontrol Aletleri Sanayi ve Ticaret A.S.;

ETI Elektroteknik Sanayi ve Ticaret A.S.;

Muhammad Farooq;

Daniel Geiges;

Paul Griffin;

Peter Griffin;

Abdul Qadeer Khan;

Gotthard Lerch;

Shamsul Bahrin bin Rukiban;

Buhary Seyed Abu Tahir;

Gerhard Wisser; and,

Shah Hakim Shahnazim Zain.

Accordingly, the following sanctions are being imposed on these persons:

(A) The Board of Directors of the Export Import Bank shall not give approval to guarantee, insure, or extend credit, or participate in the extension of credit in support of United States exports.

These measures become effective immediately and shall be implemented by the responsible departments and agencies of the United States Government as provided in the Export Import Bank Act of 1945 (as amended).

Executive Order 12938

Pursuant to the authorities vested in the President by the Constitution and the laws of the United States of America, including the International Emergency Economic Powers Act (50 U.S.C. 1701 et seq.) (IEEPA), the National Emergencies Act (50 U.S.C. 1601 et seq.), the Arms Export Control Act (22 U.S.C. 2751 et seq.), and Section 301 of title 3, United States Code, and Executive Order 12938 of November 14, 1994, as amended, the U.S. Government determined that the following entities have engaged in proliferation activities that require the imposition of measures pursuant to sections 4(b), 4(c), and 4(d) of Executive Order 12938:

Selim Alguadis (Turkey);

Kursad Zafer Cire (Turkey);

Muhammad Nasim ud Din (Pakistan);

EKA Elektronik Kontrol Aletleri Sanayi ve Ticaret A.S. (Turkey);

ETI Elektroteknik Sanayi ve Ticaret A.S. (Turkey);

Muhammad Farooq (Pakistan);

Daniel Geiges (Switzerland);

Paul Griffin (United Kingdom);

Peter Griffin (United Kingdom);

Abdul Qadeer Khan (Pakistan);

Gotthard Lerch (Germany);

Shamsul Bahrin bin Rukiban (Malaysia);

Buhary Seyed Abu Tahir (Sri Lanka);

Tradefin Engineering (South Africa);

Gerhard Wisser (Germany); and,

Shah Hakim Shahnazim Zain (Malaysia).

Accordingly, pursuant to the provisions of Executive Order 12938, the following measures are imposed on these entities, and as applicable, their subunits, and successors for two years:

(A) No department or agency of the United States Government may procure or enter into any contract for the procurement of any goods, technology, or services from these entities;

(B) No department or agency of the United States Government may provide any assistance to these entities, and none of these entities shall be eligible to participate in any assistance program of the United States Government.

(C) The Secretary of the Treasury shall prohibit the importation into the United States of any goods, technology, or services produced or provided by these entities, other than information or informational materials within the meaning of section 203(b)(3) of the International Emergency Economic Powers Act (50 U.S.C. 1702(b)(3)).

These measures become effective immediately and shall be implemented by the responsible departments and agencies as provided in Executive Order 12938.

Executive Order 13382

Pursuant to the authority in section 1(ii) of Executive Order 13382, “Blocking Property of Weapons of Mass Destruction Proliferators and Their Supporters”, the United States Government determined on January 9, 2009 that foreign persons have engaged, or attempted to engage, in activities or transactions that have materially contributed to, or pose a risk of materially contributing to, the proliferation of weapons of mass destruction or their means of delivery. The following foreign persons' property and interests in property are blocked pursuant to Executive Order 13382:

1. ALGUADIS, Selim; DOB 27 May 1944; POB Turkey; Nationality Turkey; Passport 585843 (Turkey) issued 11 November 1999 in Istanbul;

2. CIRE, Kursad Zafer (a.k.a. CIRE, Kursat Zafer); DOB 30 August 1967; POB Germany; Nationality Turkey; Passport 778456 (Turkey) issued 14 May 1997 in Istanbul expired 13 May 2007;

3. FAROOQ, Muhammad; DOB 12 March 1949; Nationality Pakistan; Passport S122252 (Pakistan);

4. GEIGES, Daniel; DOB 25 January 1938; POB Lachen, Switzerland; Nationality Switzerland; Passport 8071366 (Switzerland);

5. GRIFFIN, Paul Nicholas; DOB 16 February 1964; Nationality United Kingdom;

6. GRIFFIN, Peter; DOB 9 September 1935; POB Oxford, United Kingdom; Nationality United Kingdom; Passport B401584 (United Kingdom) issued 28 September 1989 in Newport, Gwent, expired 28 September 1999; Passport B109455 (United Kingdom) issued 3 October 1979;

7. KHAN, Abdul Qadeer (a.k.a. ZAMAN, Haydar); DOB 27 April 1936; POB Bhopal, India; Nationality Pakistan; Passport D000428 (Pakistan);

8. LERCH, Gotthard; DOB 21 December 1942; POB Germany; Nationality German; Passport 3545767791D (Germany) issued 7 August 1998 at General Consulate, Zurich expired 6 August 2008; alt. Passport 3545767791 (Germany); Kreuzbergstrasse 4, 9472 Grabs, St. Gallen Canton, Switzerland;

9. TAHIR, Buhary Seyed Abu; DOB 17 April 1959; POB Chennai, India; Nationality Sri Lanka; Passport M2068357 (Sri Lanka) issued 4 September 2001 in Colombo expired September 2006; Passport M1754102 (Sri Lanka) issued 16 March 1999 expired 16 March 2004;

10. WISSER, Gerhard; DOB 2 July 1939; POB Lohne, Germany; Nationality German; Passport 3139001443 (Germany).

These measures become effective immediately and shall be implemented by the responsible departments and agencies as provided in Executive Order 13382.

FOR FURTHER INFORMATION CONTACT: Director, Office of Counterproliferation Initiatives, Bureau of International Security and Nonproliferation, Department of State, Washington, DC 20520, tel.: 202/647-5193.

Dated: January 9, 2009.
Patricia A. McNerney,
Acting Assistant Secretary of State, Bureau of International Security and Nonproliferation, Department of State.

[FR Doc. E9-820 Filed 1-15-09; 8:45 am]

BILLING CODE 4710-27-P